DEPARTMENT OF THE INTERIOR

National Park Service

Notice of Availability of a Record of Decision on the Final Environmental Impact Statement/General Management Plan, Arkansas Post National Memorial, Arkansas

SUMMARY: On April 2, the Director, Midwest Region approved the Record of Decision for the project. As soon as practical, the National Park Service (NPS) will begin to implement the general management plan described as the preferred alternative (alternative B) contained in the final environmental impact statement (FEIS) issued on January 6. In the preferred alternative, the visitor center would be rehabilitated and expanded to better highlight the park's cultural and natural resources. The park staff would develop activities such as festivals and programs that focus on cultures that are associated with Arkansas Post National Memorial (ARPO). Interpretation of the resources associated with the Civil War battle would be enhanced to provide for greater visitor appreciation and understanding. The picnic area would be retained and an informal overflow parking area would be developed to accommodate these special events. Present road systems would be retained.

At the Osotouy Unit, an access road and a small visitor contact station and a parking area would be developed in an area that is now an agricultural field. This area would include a staging area for group tours. Housing for a park ranger and an adjacent small maintenance area would be developed near by. A small research support facility would also be constructed on site and would provide the necessary support for scientific study at Osotouy. An interpretive loop trail focusing on American Indian Culture, Euro-American arrival and the interaction between the two cultures would be developed for the visitor contact station to the mounds with a portion along Lake Dumond.

This alternative was deemed to be the environmentally preferred alternative, and it was determined that implementation of the selected actions will not constitute an impairment of park resources and values. This course of action and three alternatives were analyzed in the draft and FEIS. The full range of foreseeable environmental consequences was assessed, and appropriate mitigating measures identified.

The full record of decision includes a statement of the decision made, synopses of other alternatives considered, the basis for the decision, a description of the environmentally preferable alternative, a finding on impairment of park resources and values, and a listing of measures to minimize environmental harm.

Basis for Decision

In reaching its decision to select the preferred alternative, the NPS considered the purposes for which Arkansas Post National Memorial was established, and other laws and policies that apply to lands in the memorial, including the Organic Act, National Environmental Policy Act, and the NPS Management Policies. The NPS, also, carefully considered public comments received during the planning process.

To develop a preliminary preferred alternative, the planning team evaluated the four draft alternatives that had been reviewed by the public. To minimize the influence of individual biases and opinions, the team used an objective analysis process called “Choosing by Advantages.” This process has been used extensively by government agencies and the private sector. Decision points identify the key choices that still remain to be made after all the mandates are taken into account and the park's purpose and significance are considered. For this general management plan, three “decision points” were identified:

1. What level of development can be allowed while still preserving the park's cultural and natural resources unimpaired for future generation?

2. What visitor use, including local recreational use, can be accommodated while preserving the integrity of the park's cultural and natural resources?

3. How does the park best memorialize the legislated historical period while preserving park resources?

These decision points were covered by looking at the varying degrees of these decision points: Alternative C emphasizes the preservation of cultural and natural resources of the park for future generations. In this alternative there are limited recreational areas and trails are kept to a minimum, offering very little interpretation or orientation for the park visitor. In this alternative, recreational use is minimized.

Alternative D focuses on decision points 2 and 3. In this alternative, trails would be expanded and the park lake would be opened up for recreation. This alternative would seek to develop new ways for the public to gain an appreciation and understanding of the park's natural and cultural resources. Educational and interpretive goals would be emphasized though an array of recreational activities and visitor interpretation would emphasize the parks historical significance. This alternative, however, opens additional areas to recreation and interpretation and does not focus enough on the preservation of the park's cultural and natural resources for future generations.

The preferred alternative, alternative B, best answers all three of these decision points by striking a balance between recreational use, cultural and natural resource preservation and memorizing the legislated historical period. By emphasizing interpretation of the area's 300 years of cultural cooperation, conflict, synthesis, and diversity, alternative B encompasses both recreational use and conservation of cultural and natural resources. A no-action alternative, alternative A was included for comparison.

FOR FURTHER INFORMATION CONTACT: Superintendent Edward Wood, Jr., Arkansas Post National Memorial, 1741 Old Post Road, Gillett, AR 72055; telephone 870-548-2207, or http://planning.nps.gov/plans.cfm.

SUPPLEMENTARY INFORMATION: A limited number of individual copies of the Record of Decision may be obtained from the Superintendent listed above.

Dated: April 21, 2004.
David N. Given,
Acting Regional Director, Midwest Region.

[FR Doc. 04-13517 Filed 6-15-04; 8:45 am]

BILLING CODE 4312-BW-P